DEPARTMENT OF AGRICULTURE

Forest Service

Fresno County Resource Advisory Committee

AGENCY: Forest Service, USDA.

ACTION: Notice of meeting.

SUMMARY: The Fresno County Resource Advisory Committee will be meeting in Clovis, California on September 16th. The purpose of this meeting will be to discuss monitoring of the projects funded through the amended and reauthorized Secure Rural Schools and Community Self-Determination Act of 2000 (Pub. L. 110-343) for expenditure of Payments to States Fresno County Title II funds and to begin discussing the timeline for accepting project applications for the next funding cycle.

DATES: The meeting will be held on September 16, 2009 from 6 p.m. to 8 p.m. in Clovis, CA.

ADDRESSES: The meeting will be held at the Sierra National Forest Supervisors Office, 1600 Tollhouse Rd. Clovis, CA. Send written comments to Robbin Ekman, Fresno County Resource Advisory Committee Coordinator, c/o Sierra National Forest, High Sierra Ranger District, 29688 Auberry Road, Prather, CA 93651 or electronically to rekman@fs.fed.us.

FOR FURTHER INFORMATION CONTACT: Robbin Ekman, Fresno County Resource Advisory Committee Coordinator, (559) 855-5355 ext. 3341.

SUPPLEMENTARY INFORMATION: The meeting is open to the public. Committee discussion is limited to Forest Service staff and Committee members. However, persons who wish to bring Payments to States Fresno County Title II project matters to the attention of the Committee may file written statements with the Committee staff before or after the meeting. Agenda items to be covered include: (1) Monitoring (2) Project submission timelines.

Dated: August 12, 2009.
Ray Porter,
District Ranger.

[FR Doc. E9-19760 Filed 8-17-09; 8:45 am]

BILLING CODE 3410-11-M